DEPARTMENT OF TRANSPORTATION

Federal Railroad Administration

Tier 1 Environmental Impact Statement for the Empire Corridor High Speed Rail Program From New York City to Niagara Falls, NY

AGENCY: Federal Railroad Administration (FRA), Department of Transportation (DOT).

ACTION: Notice of intent to prepare an environmental impact statement.

SUMMARY: FRA is issuing this notice to advise the public that FRA with the New York State Department of Transportation (NYSDOT) will jointly prepare a Tier 1 Environmental Impact Statement (EIS) for the Empire Corridor High Speed Rail (HSR) Program in compliance with relevant State and Federal laws, in particular the National Environmental Policy Act (NEPA) and the State Environmental Quality Review Act (SEQR). FRA is also issuing this notice to solicit public and agency input into the development of the scope of the Empire Corridor HSR Program EIS and to advise the public that outreach activities conducted by the NYSDOT and its representatives will be considered in the preparation of the EIS. The objective of the tiered EIS is to evaluate alternatives and make corridor level decisions regarding the level of intercity passenger rail service provided in the corridor, including variations in train frequency, trip time, and on-time performance.

DATES: Letters describing the proposed project and soliciting comments were sent to appropriate Federal, State, and local agencies, and appropriate railroads. Written comments on the scope of the Empire Corridor HSR Program EIS should be provided to NYSDOT by October 30, 2009. A public scoping meeting is scheduled for September 24, 2009, from 1:30 to 2:30 p.m., at 50 Wolf Road, Conference Rooms A, B and C on the first floor, Albany, NY 12232 for the purpose of introducing the proposed project to regulatory agencies and other interested parties. No formal NEPA scoping meeting is planned. A series of public information meetings will be held in Eastern and Western New York in November and December 2009. Public notices will be given of the time and place of the meetings.

ADDRESSES: Written comments on the scope of this EIS should be addressed to: Ann R. Purdue, High Speed Rail Program Manager, New York State Department of Transportation, 50 Wolf Road POD 6-4, Albany, NY 12232, or via e-mail with the subject line, “Empire Corridor HSR” to: apurdue@dot.state.ny.us. Comments may also be provided orally or in writing at the scoping meeting on September 24, 2009, at 50 Wolf Road, Conference Rooms A, B and C, Albany, New York 12232.

FOR FURTHER INFORMATION CONTACT: Ms. Melissa Elefante DuMond, Environmental Protection Specialist, Office of Railroad Development, Federal Railroad Administration, 1200 New Jersey Avenue, SE. (Mail Stop 20), Washington, DC 20590; Telephone (202) 493-6366, or Ann R. Purdue, High Speed Rail Program Manager, New York State Department of Transportation, 50 Wolf Road POD 6-4, Albany, NY, Telephone (518) 457-0607.

SUPPLEMENTARY INFORMATION: The FRA, in cooperation with the New York State Department of Transportation (NYSDOT), will prepare a tiered Environmental Impact Statement (EIS) that will study and document proposed improvements to intercity passenger rail services along the 463-mile Empire Corridor, beginning at Penn Station in New York City, New York County and proceeding north to Poughkeepsie (Dutchess County) and Albany (Albany County) then turning west to Schenectady (Schenectady County), Utica (Oneida County), Syracuse (Onondaga County), Rochester (Monroe County), Buffalo (Erie County) and terminating at Niagara Falls (Niagara County).

Purpose and Need: In 2008, Amtrak carried 315.79 million passenger miles along the Empire Corridor. However, overall on-time performance (OTP) for Amtrak in 2008 was poor, with 68% OTP for trains operating between Penn Station and Albany-Rensselaer, and OTP of 41% for trains operating between Penn Station and Niagara Falls. Trip times are competitive with automobile and air travel between Penn Station and Albany-Rensselaer, but are considerably slower in the Penn Station to Niagara Falls market. Mobility choices were limited, primarily west of Albany, due to limited train frequency. Poor on-time performance, non-competitive trip times, and infrequent service are all factors known to adversely affect passenger rail ridership.

The 2009 New York State Rail Plan identified a need for improvements to passenger rail services as a means to reduce highway congestion, reduce airport congestion, reduce greenhouse gas emissions, and limit the consumption of fossil fuels, and to support economic growth and smart land use development. The New York State Rail Plan also identified several potential investments to expand, enhance and grow intercity passenger rail services in the Empire HSR corridor. The FRA and NYSDOT will establish specific goals for train frequency, trip time, and on-time performance on a corridor-wide basis and identify the operational changes and investments in infrastructure and equipment necessary to achieve those goals.

Environmental Review Process: The EIS will be developed in accordance with the National Environmental Policy Act of 1969 (NEPA), 42 U.S.C. 4321, and the New York State Environmental Quality Review Act (SEQR), 17 NYCRR Part 15. The FRA and the NYSDOT will use a tiered process, as provided for in 40 CFR 1508.28 and in accordance with FRA regulations, in the completion of the environmental review of the Project. “Tiering” is a staged environmental review process applied to environmental reviews for complex projects. The initial phase (“Tier 1 EIS”) of this process will address broad corridor-level issues and proposals. Subsequent phases or tiers will analyze, at a greater level of detail, narrower site-specific proposals based on the decisions made in Tier 1.

Tier 1: Although open to refinement based on public and agency review and comment, the Tier 1 assessment will result in a NEPA and SEQR document with the appropriate level of detail for corridor-level decisions and will address broad overall issues of concern, including but not limited to:

• Confirm the purpose and need for the proposed action.

• Define the study area appropriate to assess reasonable alternatives.

• Identify a comprehensive set of goals and objectives for the corridor in conjunction with Stakeholders and Steering Committee members. These goals and objectives will be crafted to allow comprehensive evaluation of all aspects of the project necessary to achieve the goals, including train operations, vehicles and infrastructure.

• Identify the range of reasonable alternatives to be considered, consistent with the current and planned use of the corridor and the existing services within and adjacent to the study area.

• Develop criteria and screen alternatives to eliminate those that do not meet the purpose and need of the proposed action.

• Identify the general alignment(s) of the reasonable alternatives.

• Identify right-of-way requirements for the reasonable alternatives.

• Identify the infrastructure and equipment investment requirements for the reasonable alternatives.

• Identify the operational changes required for the reasonable alternatives.

• Describe the environmental impacts associated with proposed changes in passenger rail train frequency, speed, and on-time performance.

• Characterize the environmental consequences of the reasonable alternatives.

• Establish the timing and sequencing of independent actions to maintain a state of good repair and to implement the proposed action.

Tier 2: The second tier assessment will address component projects to be implemented within the general corridor identified in the Tier 1 EIS, and incorporate by reference the data and evaluations included in the Tier 1 EIS. Subsequent evaluations will concentrate on the issues specific to the component of the selected alternative identified in the Tier 1 EIS; determine the project alternative that best meets the purpose and need for each proposed action; and identify the environmental consequences and measures necessary to mitigate environmental impacts at a site-specific level of detail.

Scoping and Comments: FRA encourages broad participation in the EIS process during scoping and review of the resulting environmental documents. Comments and suggestions are invited from all interested agencies and the public at large to insure the full range of issues related to the proposed action and all reasonable alternatives are addressed and all significant issues are identified. In particular, FRA is interested in determining whether there are areas of environmental concern where there might be the potential for significant impacts identifiable at a corridor level. Letters describing the proposed project and soliciting comments were sent to appropriate Federal, State, and local agencies, and appropriate railroads. Public agencies with jurisdiction are requested to advise the FRA and NYSDOT of the applicable environmental review requirements of each agency, and the scope and content of the environmental information that is germane to the agency's statutory responsibilities in connection with the proposed project.

A public scoping meeting is scheduled for September 24, 2009, from 1:30 to 2:30 p.m., at 50 Wolf Road, Conference Rooms A, B and C on the first floor, Albany, NY 12232 for the purpose of introducing the proposed project to regulatory agencies and other interested parties. No formal NEPA scoping meeting is planned. A series of public information meetings will be held in Eastern and Western New York in November and December 2009. Public notices will be given of the time and place of the meetings.

Persons interested in providing comments on the scope of the Tier 1 EIS should do so by October 30, 2009. Comments can be sent in writing to Ms. Melissa Elefante DuMond at the FRA address identified above. Comments may also be addressed to Ms. Ann R. Purdue, of NYSDOT, at the address identified above.

Issued in Washington, DC, on September 18, 2009.
Mark E. Yachmetz,
Associate Administrator for Railroad Development, Federal Railroad Administration.

[FR Doc. E9-23002 Filed 9-23-09; 8:45 am]

BILLING CODE 4910-06-P